DEPARTMENT OF HOMELAND SECURITY

Security of Aircraft and Safety of Passengers Transiting Port-au-Prince, Haiti

AGENCY: Transportation Security Administration, DHS.

ACTION: Notice.

SUMMARY: This Notice informs the public that the Department of Homeland Security has determined that Port-au-Prince International Airport in Port-au-Prince, Haiti does not maintain and carry out effective security measures. Pursuant to this Notice, all United States and foreign air carriers (and their agents) providing service between the United States and Port-au-Prince International Airport are directed to provide written notice of this determination to any passenger purchasing a ticket for transportation between the United States and Haiti and to post notice of the determination at United States airports in accordance with statutory requirements.

FOR FURTHER INFORMATION CONTACT: David Tiedge, Director, International Affairs, Transportation Security Administration, 601 South 12th Street, Arlington, VA, 22202, Telephone: (571) 227-2257, E-mail: David.Tiedge@dhs.gov.

Notice: Pursuant to 49 U.S.C. 44907(a), the Secretary of Homeland Security is authorized to assess periodically the effectiveness of the security measures maintained by foreign airports that handle air carriers that serve the United States or that may pose a “high risk of introducing danger to international air travel.” If the Secretary determines that a foreign airport does not maintain and carry out effective security measures, the Secretary is required to “notify the appropriate authorities of the government of the foreign country of the decision and recommend the steps necessary to bring the security measures up to the standard used * * * in making the assessment.” 49 U.S.C. 44907(c).

Further, the Secretary must: (a) Publish the identity of the foreign airport in the Federal Register, (b) post the identity of such airport at all United States airports at which scheduled air carrier operations are provided regularly, and (c) notify the news media of the identity of the airport. 49 U.S.C. 44907(d). In addition, the statute requires all air carriers providing service between the United States and the foreign airport in question to provide written notice of the determination, either on or with the ticket, to all passengers purchasing transportation between the United States and the airport. 49 U.S.C. 44907(d)(1)(B).

On December 22, 2004, the Secretary of Homeland Security notified the Government of Haiti that, pursuant to 49 U.S.C. 44907, he had determined that Port-au-Prince International Airport, Port-au-Prince, Haiti, does not maintain and carry out effective security measures. This determination is based on Transportation Security Administration (TSA) assessments that reveal that security measures used at Port-au-Prince International Airport do not meet the standards established by the International Civil Aviation Organization (ICAO).

The Department of Homeland Security (DHS) is issuing this Notice pursuant to 49 U.S.C. 44907(d)(1) to inform the public of this determination. DHS directs that notice of the determination be displayed prominently in all United States airports with regularly scheduled air carrier operations. Further, DHS will notify the news media of this determination. In addition, as a result of this determination, 49 U.S.C. 44907(d)(1)(B) requires that each United States and foreign air carrier (and their agents) providing transportation between the United States and Port-au-Prince International Airport shall provide notice of DHS's determination to each passenger buying a ticket for transportation between the United States and Port-au-Prince International Airport, with such notice to be made by written material included on or with such ticket.

Dated: January 13, 2005.
Tom Ridge,
Secretary.

[FR Doc. 05-1244 Filed 1-21-05; 8:45 am]

BILLING CODE 4910-62-P